OFFICE OF PERSONNEL MANAGEMENT

Excepted Service

AGENCY: Office of Personnel Management.

ACTION: Notice.

SUMMARY: This notice identifies Schedule A, B, and C appointing authorities applicable to a single agency that were established or revoked from June 1, 2017 to June 30, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during June 2017.

Schedule B

No schedule B authorities to report during June 2017.

Schedule C

The following Schedule C appointing authorities were approved during June 2017.

Agency name | Organization name | Position title | Authorization No. | Effective date
DEPARTMENT OF AGRICULTURE | Office of the Secretary | Advance Lead Staff Assistant | DA170159 DA170162 | 06/07/2017 06/15/2017
| Office of the General Counsel | Senior Advisor | DA170158 | 06/09/2017
| Office of the Assistant Secretary for Congressional Relations | Policy Advisor | DA170167 | 06/27/2017
DEPARTMENT OF COMMERCE | Office of Assistant Secretary Legislative and Intergovernmental Affairs | Legislative Affairs Specialist | DC170133 | 06/06/2017
| Office of Director General of the United States and Foreign Commercial Service and Assistant Secretary for Global Markets | Senior Advisor | DC170134 | 06/06/2017
| Office of Assistant Secretary for Industry and Analysis | Director, Office of Advisory Committees and Industry Outreach | DC170128 | 06/15/2017
| Office of Executive Secretariat | Confidential Assistant | DC170137 | 06/15/2017
| Office of the Chief of Staff | Director of Advance and Protocol | DC170115 | 06/16/2017
|  | Scheduling Assistant | DC170139 | 06/21/2017
| Office of Public Affairs | Director of Digital Strategy | DC170145 | 06/20/2017
| Office of Minority Business Development Agency | Special Assistant | DC170054 | 06/21/2017
DEPARTMENT OF DEFENSE | Office of the Secretary of Defense | Confidential Assistant | DD170093 | 06/02/2017
|  | Deputy White House Liaison | DD170094 | 06/02/2017
|  | Advance Officer | DD170164 | 06/02/2017
| Washington Headquarters Services | Defense Fellow (2) | DD170122 DD170179 | 06/02/2017 06/15/2017
| Office of Assistant Secretary of Defense (Public Affairs) | Speechwriter | DD170170 | 06/13/2017
| Office of the Assistant Secretary of Defense (Strategy Plans and Capabilities) | Special Assistant (Strategy Plans and Capabilities) | DD170171 | 06/15/2017
|  | Special Assistant for Strategy and Force Development | DD170173 | 06/15/2017
| Office of the Assistant Secretary of Defense (Legislative Affairs) | Special Assistant (Legislative Affairs) Chief, Research | DD170165 | 06/15/2017
|  | Special Assistant (Legislative Affairs) for Europe/National Atlantic Treaty Organization | DD170148 | 06/02/2017
|  | Special Assistant (Legislative Affairs) for General Services Administration/Cyber | DD170138 | 06/20/2017
|  | Special Assistant (Legislative Affairs) Chief, Acquisition, Technology and Logistics | DD170169 | 06/20/2017
DEPARTMENT OF EDUCATION | Office of Communications and Outreach | Communications Director | DB170122 | 06/08/2017
|  | Confidential Assistant | DB170123 | 06/20/2017
| Office of Legislation and Congressional Affairs | Confidential Assistant | DB170117 | 06/13/2017
DEPARTMENT OF ENERGY | Office of Energy Policy and Systems Analysis | Senior Advisor | DE170171 | 06/09/2017
| Office of Assistant Secretary for Energy Efficiency and Renewable Energy | Special Advisor Senior Advisor | DE170169 DE170168 | 06/15/2017 06/20/2017
ENVIRONMENTAL PROTECTION AGENCY | Office of the Associate Administrator for Congressional and Intergovernmental Relations | Special Assistant for Intergovernmental Relations | EP170060 | 06/02/2017
| Office of the Assistant Administrator for Land and Emergency Management | Senior Advisor for Land and Emergency Management | EP170067 | 06/06/2017
FEDERAL COMMUNICATIONS COMMISSION | Office of Media Relations | Public Affairs Specialist | FC170009 | 06/22/2017
GENERAL SERVICES ADMINISTRATION | Office of Strategic Communications | Associate Administrator for Strategic Communications | GS170023 | 06/02/2017
DEPARTMENT OF HEALTH AND HUMAN SERVICES | Office for Civil Rights Office of the Assistant Secretary for Health | Senior Advisor for Operations Chief of Staff | DH170254 DH170256 | 06/02/2017 06/02/2017
| Office of the Secretary | Special Assistant | DH170272 | 06/13/2017
|  | Policy Advisor for Health Policy | DH170262 | 06/06/2017
| Office of the Assistant Secretary for Public Affairs | Director of Digital Media | DH170267 | 06/06/2017
| Centers for Medicare and Medicaid Services | Special Assistant | DH170255 | 06/16/2017
| Office of Health Resources and Services Administration Office of the Administrator | Special Assistant | DH170278 | 06/20/2017
| Office of the Assistant Secretary for Preparedness and Response | Senior Advisor | DH170285 | 06/27/2017
DEPARTMENT OF HOMELAND SECURITY | Office of Federal Emergency Management Agency Office of the Assistant Secretary for Public Affairs | Director of Legislative Affairs Press Assistant/Rapid Response Coordinator | DM170168 DM170186 | 06/01/2017 06/15/2017
|  | Senior Director of Content | DM170149 | 06/30/2017
|  | Assistant Press Secretary | DM170207 | 06/21/2017
|  | Communications Director | DM170148 | 06/02/2017
| Office of Assistant Secretary for Legislative Affairs | Associate Director, Office of Legislative Affairs | DM170167 | 06/05/2017
|  | Confidential Assistant | DM170174 | 06/07/2017
| Office of United States Immigration and Customs Enforcement | Deputy Chief of Staff, Immigration and Customs Enforcement | DM170177 | 06/06/2017
| Office of the Chief of Staff | Special Assistant | DM170211 | 06/29/2017
|  | Scheduler | DM170209 | 06/30/2017
|  | Advance Coordinator | DM170138 | 06/16/2017
| Office of United States Customs and Border Protection | Senior Policy Advisor Confidential Assistant | DM170216 DM170198 | 06/30/2017 06/16/2017
| Office of the Assistant Secretary for Policy | Policy Analyst (2) | DM170205 DM170206 | 06/16/2017 06/30/2017
DEPARTMENT OF THE INTERIOR | Secretary's Immediate Office | Special Assistant Advance Representative | DI170085 DI170095 | 06/06/2017 06/15/2017
|  | Writer | DI170089 | 06/27/2017
|  | Deputy Director, Office of Scheduling and Advance | DI170088 | 06/07/2017
| Office of the Solicitor | Advisor | DI170093 | 06/14/2017
|  | Counselor | DI170096 | 06/15/2017
DEPARTMENT OF JUSTICE | Office of Civil Rights Division | Counsel | DJ170121 | 06/02/2017
|  | Senior Counsel | DJ170127 | 06/23/2017
| Office of Legislative Affairs | Attorney Advisor | DJ170077 | 06/26/2017
DEPARTMENT OF LABOR | Office of the Secretary | Deputy Director of Scheduling | DL170060 | 06/12/2017
| Office of Employment and Training Administration | Senior Policy Advisor | DL170065 | 06/15/2017
| Office of Congressional and Intergovernmental Affairs | Legislative Assistant | DL170066 | 06/27/2017
NATIONAL LABOR RELATIONS BOARD | Office of the Board Members | Director Congressional and Public Affairs Officer | NL170012 | 06/16/2017
OFFICE OF MANAGEMENT AND BUDGET | Office of Information and Regulatory Affairs | Confidential Assistant | BO170077 | 06/08/2017
| Office of Communications | Deputy Press Secretary | BO170075 | 06/22/2017
OFFICE OF NATIONAL DRUG CONTROL POLICY | Office of the Director | Chief Strategist | QQ170005 | 06/06/2017
OFFICE OF PERSONNEL MANAGEMENT | Office of the Director | Deputy Chief of Staff | PM170037 | 06/08/2017
PRESIDENTS COMMISSION ON WHITE HOUSE FELLOWSHIPS | Presidents Commission on White House Fellowships | Confidential Assistant Special Assistant | WH170007 WH170011 | 06/02/2017 06/02/2017
SELECTIVE SERVICE SYSTEM | Office of the Director | Special Advisor | SS170001 | 06/08/2017
SMALL BUSINESS ADMINISTRATION | Office of Investment and Innovation | Senior Advisor | SB170044 | 06/06/2017
SOCIAL SECURITY ADMINISTRATION | Office of the Commissioner | Confidential Assistant | SZ170007 | 06/06/2017
DEPARTMENT OF STATE | Office of the Under Secretary for Management | Special Assistant | DS170134 | 06/02/2017
| Office of the Under Secretary for Economic Growth, Energy, and the Environment | Senior Advisor | DS170157 | 06/02/2017
| Office of the Secretary | Special Assistant | DS170167 | 06/09/2017
|  | Special Assistant (Scheduler) | DS170164 | 06/02/2017
|  | Staff Assistant (Deputy Scheduler) | DS170175 | 06/20/2017
|  | Special Advisor | DS170165 | 06/02/2017
| Bureau of International Information Programs | Deputy Coordinator | DS170155 | 06/09/2017
| Bureau of Western Hemisphere Affairs | Special Assistant | DS170156 | 06/09/2017
| Bureau of Public Affairs | Senior Advisor | DS170160 | 06/09/2017
| Bureau of Legislative Affairs | Deputy Assistant Secretary | DS170168 | 06/09/2017
| Office of the Under Secretary for Civilian Security, Democracy, and Human Rights | Advisor | DS170170 | 06/09/2017
| Office of the Chief of Protocol | Staff Assistant | DS170173 | 06/15/2017
|  | Senior Protocol Officer | DS170177 | 06/23/2017
| Office of Policy Planning | Staff Assistant | DS170174 | 06/27/2017
TRADE AND DEVELOPMENT AGENCY | Office of the Director | Public Affairs Specialist | TD170008 | 06/09/2017
DEPARTMENT OF TRANSPORTATION | Office of the Secretary | Counselor | DT170108 | 06/07/2017
| Office of Assistant Secretary for Governmental Affairs | Governmental Affairs Officer | DT170115 | 06/21/2017
DEPARTMENT OF THE TREASURY | Office of Under Secretary for Domestic Finance | Senior Advisor | DY170135 | 06/02/2017
| Department of the Treasury | Special Assistant | DY170138 | 06/16/2017
|  | Deputy Chief of Staff | DY170145 | 06/28/2017
DEPARTMENT OF VETERANS AFFAIRS | Office of the Assistant Secretary for Public and Intergovernmental Affairs | Press Secretary | DV170054 | 06/06/2017
| Office of the Secretary and Deputy | Special Assistant/Whitehouse Liaison | DV170052 | 06/14/2017
| Office of the Assistant Secretary for Congressional and Legislative Affairs | Special Assistant | DV170062 | 06/27/2017

The following Schedule C appointing authorities were revoked during June 2017.

Agency name | Organization name | Position title | Request No. | Date vacated
COMMODITY FUTURES TRADING COMMISSION | Office of the Chairperson | Senior Advisor | CT170003 | 06/02/2017
DEPARTMENT OF DEFENSE | Office of the Assistant Secretary of Defense (Special Operations/Low Intensity Conflict) | Special Assistant to Assistant Secretary of Defense for Special Operations/Low Intensity Conflict | DD170162 | 06/24/2017
FEDERAL TRADE COMMISSION | Office of the Chairperson | Confidential Assistant | FT130004 | 06/30/2017
DEPARTMENT OF THE INTERIOR | Office of the Assistant Secretary—Indian Affairs | Advisor | DI170046 | 06/09/2017
| Office of Secretary's Immediate Office | Special Assistant (Scheduling and Advance) | DI170044 | 06/10/2017
| Office of the Solicitor | Advisor | DI170064 | 06/24/2017
NATIONAL ENDOWMENT FOR THE HUMANITIES | National Endowment for the Humanities | White House Liaison and Chairman's Strategic Scheduler | NH170001 | 06/09/2017
DEPARTMENT OF TRANSPORTATION | Office of the Secretary | Special Assistant | DT170078 | 06/24/2017
UNITED STATES INTERNATIONAL TRADE COMMISSION | Office of Commissioner Kieff | Staff Assistant (Legal) | TC140004 | 06/30/2017
| Office of Commissioner Schmidtlein | Confidential Assistant | TC140001 | 06/30/2017
|  | Staff Assistant (Legal) (2) | TC140002 TC140003 | 06/30/2017 06/30/2017

Authority: 5 U.S.C. 3301 and 3302; E.O. 10577, 3 CFR, 1954-1958 Comp., p. 218.

U.S. Office of Personnel Management.
Kathleen M. McGettigan,
Acting Director.

[FR Doc. 2017-27070 Filed 12-14-17; 8:45 am]

BILLING CODE 6325-39-P